ENVIRONMENTAL PROTECTION AGENCY

40 CFR Part 52

[EPA-R10-OAR-2006-1013; FRL-8447-2]

Approval and Promulgation of Air Quality Implementation Plan; Alaska

AGENCY: Environmental Protection Agency (EPA).

ACTION: Final rule.

SUMMARY: In this action EPA is approving numerous revisions to the State of Alaska State Implementation Plan (SIP). The Commissioner of the Alaska Department of Environmental Conservation (ADEC) submitted two requests to EPA dated May 6, 2005 and June 30, 2006 to revise the Alaska SIP to include certain sections of ADEC's revised air quality regulations. The revisions were submitted in accordance with the requirements of section 110 of the Clean Air Act (hereinafter the Act or CAA). Although EPA is approving most of the submitted revisions, EPA is not approving in this rulemaking a number of submitted rule provisions which are inappropriate for EPA approval.

DATES: This final rule is effective on September 13, 2007.

ADDRESSES: EPA has established a docket for this action under Docket #R10-OAR-2006-1013. All documents in the docket are listed on the www.regulations.gov Web site. Although listed in the index, some information may not be publicly available, e.g. confidential business information or other information whose disclosure is restricted by statute. Certain other material, such as copyrighted material, is not placed on the Internet and will be publicly available only in hard copy form. Publicly available docket materials are available either electronically through www.regulations.gov or in hard copy at EPA Region 10, Office of Air Waste and Toxics (AWT-107), 1200 Sixth Avenue, Seattle, WA. EPA requests that if possible you contact the contact listed in the FOR FURTHER INFORMATION CONTACT section, to schedule an appointment. Region 10 official business hours are 8:30 a.m. to 4:30 p.m. Monday through Friday, excluding legal holidays.

FOR FURTHER INFORMATION CONTACT: David Bray, Office of Air, Waste and Toxics (AWT-107), EPA Region 10, 1200 Sixth Avenue, Seattle, WA 98101; telephone number: (206) 553-4253; fax number: (206) 553-0110; e-mail address: bray.dave@epa.gov.

SUPPLEMENTARY INFORMATION: Throughout this document, whenever “we”, “us”, or “our” is used, we mean the EPA. Information is organized as follows:

Table of Contents

I. Background of Submittal

II. Response to Comments

III. Final Action

A. Provisions Approved by EPA and Incorporated by Reference

B. Provisions Approved by EPA into the SIP, But Not Incorporated by Reference

C. Provisions Not Approved by EPA

D. Provisions Removed from the SIP

IV. Geographic Scope of SIP Approval

V. Statutory and Executive Order Reviews

I. Background of Submittal

On Monday February 5, 2007, EPA solicited public comment on a proposal to approve for inclusion in the Alaska SIP numerous revisions to the State of Alaska Implementation Plan. EPA also proposed not to approve into the SIP a number of submitted rule provisions which are inappropriate for EPA approval. A detailed description of our action was published in the Federal Register on February 5, 2007. The reader is referred to the proposed rulemaking (72 FR 5232, February 5, 2007) for details.

II. Response to Comments

EPA provided a 30-day review and comment period and solicited comments on our proposal published in the February 5, 2007, Federal Register. No adverse comments were received on the proposed rulemaking. EPA did receive one letter during the public comment period from the Alaska Oil and Gas Association (AOGA). The letter noted that EPA had proposed not to approve the version of Alaska's excess emission rule, 18 AAC 50.240, as amended by ADEC in 2004. The letter further stated that AOGA had no comment on EPA's proposal not to approve the 2004 version of 18 AAC 50.240 based on the understanding that EPA's action did not affect the SIP-approved status of the version of 18 AAC 50.240 adopted by ADEC in 1997 and approved into the SIP by EPA in 1999. EPA confirms that our decision not to approve the 2004 amendments to 18 AAC 50.240 does not affect the approval status of the 1997 version of that regulation.

III. Final Action

A. Provisions Approved by EPA and Incorporated by Reference

EPA is taking final action to approve as part of the Alaska SIP the following new and revised sections of Alaska's regulations submitted May 6, 2005 and June 30, 2006:

18 AAC 50.080 Ice Fog Standards, State effective January 18, 1997;

18 AAC 50.025 Visibility and Other Special Protection Areas; and 18 AAC 50.070 Marine Vessel Visible Emission Standards, State effective June 21, 1998;

18 AAC 50.050 Incinerator Emission Standards, State effective May 3, 2002;

18 AAC 50.005 Purpose of Chapter; 18 AAC 50.010 Ambient Air Quality Standards [except (7) and (8)]; 18 AAC 50.015 Air Quality Designations, Classifications, and Control Regions; 18 AAC 50.020 Baseline Dates and Maximum Allowable Increases, 18 AAC 50.045 Prohibitions; 18 AAC 50.055 Industrial Processes and Fuel-Burning Equipment [except (d)(2)(B)]; 18 AAC 50.100 Nonroad Engines; 18 AAC 50.200 Information Requests; 18 AAC 50.201 Ambient Air Quality Investigation; 18 AAC 50.205 Certification; 18 AAC 50.215 Ambient Air Quality Analysis Methods [except (a)(3)]; 18 AAC 50.220 Enforceable Test Methods [except (c)(2)]; 18 AAC 50.245 Air Episodes and Advisories; 18 AAC 50.250 Procedures and Criteria for Revising Air Quality Classifications; 18 AAC 50.301 Permit Continuity; 18 AAC 50.302 Construction Permits; 18 AAC 50.306 Prevention of Significant Deterioration (PSD) Permits [except (b)(2) and (b)(3)]; 18 AAC 50.311 Nonattainment Area Major Stationary Source Permits; 18 AAC 50.345 Construction and Operating Permits: Standard Permit Conditions [except (b), (c)(3), and (l)]; 18 AAC 50.508 Minor Permits Requested by the Owner or Operator [except (1) and (2)]; 18 AAC 50.546 Minor Permits: Revisions [except (b)]; 18 AAC 50.560 General Minor Permits; and 18 AAC 50.900 Small Business, State effective October 1, 2004;

18 AAC 50.542 Minor Permit: Review and Issuance [except (b)(2), (f)(4), (f)(5), and (g)(1) but only with respect to clean units and pollution control projects], State effective December 1, 2004;

18 AAC 50.225 Owner-Requested Limits; 18 AAC 50.230 Preapproved Emission Limits [except (d)]; and 18 AAC 50.544 Minor Permits: Content [except (e)], State effective January 29, 2005;

18 AAC 50.035 Documents, Procedures, and Methods Adopted By Reference [except (b)(4)]; 18 AAC 50.040 Federal Standards Adopted by Reference [except (a), (b), (c), (d), (e), (g), (h)(17), (h)(18), (h)(19), (i)(7), (i)(8), (i)(9), and (j)]; 18 AAC 50.502 Minor Permits for Air Quality Protection [except (g)(1) and (g)(2)]; 18 AAC 50.540 Minor Permit: Application [except (f) and (g)]; and 18 AAC 50.990 Definitions [except (21), and (77)], State effective December 3, 2005.

B. Provisions Approved by EPA Into the SIP, But Not Incorporated by Reference

EPA is also approving the following new and revised section as part of the SIP, but is not incorporating it by reference into Federal law because it does not regulate air emissions, but rather, describes general authorities such as procedural and enforcement authorities: 18 AAC 50.030 State Air Quality Control Plan, State effective October 1, 2004.

C. Provisions Not Approved by EPA

EPA is not approving in this rulemaking the following sections of Alaska's regulations submitted May 6, 2005 and June 30, 2006 which are inappropriate for EPA approval:

18 AAC 50.010(7) and (8); 18 AAC 50.055(d)(2)(B); 18 AAC 50.215(a)(3); 18 AAC 50.220(c)(2); 18 AAC 50.240; 18 AAC 50.306(b)(2) and (b)(3); 18 AAC 50.345(b), (c)(3) and (l); 18 AAC 50.346(a); 18 AAC 50.508(1) and (2); 18 AAC 50.509; and 18 AAC 50.546(b), State effective October 1, 2004;

18 AAC 50.316; and 18 AAC 50.542(b)(2), (f)(4), (f)(5), and, with respect to the reference to clean units and pollution control projects only, (g)(1), State effective December 1, 2004;

18 AAC 50.544(e), State effective January 29, 2005;

18 AAC 50.035(b)(4); 18 AAC 50.040(a), (b), (c), (d), (e), (g), (h)(17), (h)(18), (h)(19), (i)(7), (i)(8), (i)(9) and (j); 18 AAC 50.502(g)(1) and (g)(2); 18 AAC 50.540(f) and (g); and 18 AAC 50.990(21) and (77), State effective December 3, 2005.

D. Provisions Removed From the SIP

EPA is approving removal of the following provisions from the Alaska SIP because they have been previously repealed by ADEC, have been replaced by more recent versions of the ADEC's regulations, or because they are not required elements of a SIP under title I of the CAA: 18 AAC 50.030 State Air Quality Control Plan, State effective September 21, 2001; 18 AAC 50.035(b)(4) Documents, Procedures and Methods Adopted by Reference, State Effective January 18, 1997; 18 AAC 50.090 Ice Fog Limitations, State effective May 26, 1972; 18 AAC 50.220(c)(2) Enforceable Test Methods, State effective January 18, 1997; 18 AAC 50.300 Permit to Operate and 18 AAC 50.400 Application Review & Issuance of Permit to Operate, State effective July 21, 1991 and April 23, 1994; 18 AAC 50.520 Emissions and Ambient Monitoring, State effective July 21, 1991; 18 AAC 50.530 Circumvention, State effective June 7, 1987; 18 AAC 50.310 Revocation or Suspension of Permit, State effective May 4, 1980; 18 AAC 50.400 Permit Administration Fees, 18 AAC 50.420 Billing Procedures, and 18 AAC 50.430 Appeal Procedures, State effective January 18, 1997; 18 AAC 50.600 Reclassification Procedures & Criteria, State effective November 1, 1982; 18 AAC 50.620 State Air Quality Control Plan, State effective January 4, 1995; and 18 AAC 50.900 Definitions, State effective July 21, 1991 and January 4, 1995.

IV. Geographic Scope of SIP Approval

The SIP approval does not extend to sources or activities located in Indian Country, as defined in 18 U.S.C. 1151. EPA will continue to implement the CAA in Indian Country in Alaska because ADEC has not adequately demonstrate authority over sources and activities located within the exterior boundaries of the Annette Island Reserve and other areas of Indian Country in Alaska.

V. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves State law as meeting Federal requirements and imposes no additional requirements beyond those imposed by State law. Accordingly, the Administrator certifies that this rule will not have a significant economic impact on a substantial number of small entities under the Regulatory Flexibility Act (5 U.S.C. 601 et seq.). Because this rule approves pre-existing requirements under State law and does not impose any additional enforceable duty beyond that required by State law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a State rule implementing a Federal standard, and does not alter the relationship or the distribution of power and responsibilities established in the Clean Air Act. This rule also is not subject to Executive Order 13045 A, Protection of Children from Environmental Health Risks and Safety Risks (62 FR 19885, April 23, 1997), because it is not economically significant.

In reviewing SIP submissions, EPA's role is to approve State choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a major rule as defined by 5 U.S.C. 804(2).

Under section 307(b)(1) of the Clean Air Act, petitions for judicial review of this action must be filed in the United States Court of Appeals for the appropriate circuit by October 15, 2007. Filing a petition for reconsideration by the Administrator of this final rule does not affect the finality of this rule for the purposes of judicial review nor does it extend the time within which a petition for judicial review may be filed, and shall not postpone the effectiveness of such rule or action. This action may t be challenged later in proceedings to enforce its requirements. (See CAA section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: July 19, 2007.
Elin D. Miller,
Regional Administrator, Region 10.

Part 52, chapter I, title 40 of the Code of Federal Regulations is amended as follows:

PART 52—[AMENDED]

1. The authority citation for part 52 continues to read as follows:

Authority: 42 U.S.C. 7401 et seq.

Subpart C—Alaska

2. Section 52.70 is amended by adding paragraph (c)(36) to read as follows:

§ 52.70 Identification of plan.

* * * * *

(c) * * *

(36) On May 6, 2005 and June 30, 2006, the Alaska Department of Environmental Conservation (ADEC) submitted amendments to ADEC's air quality regulations, as revision to the State of Alaska Implementation Plan.

(i) Incorporation by reference.

(A) The following new and revised sections of ADEC's air quality regulations:

(1) 18 AAC 50.080 Ice Fog Standards; State effective January 18, 1997.

(2) 18 AAC 50.025 Visibility and Other Special Protection Areas; 18 AAC 50.070 Marine Vessel Visible Emission Standards. All provisions in this paragraph are State effective June 21, 1998.

(3) 18 AAC 50.050 Incinerator Emission Standards; State effective May 3, 2002.

(4) 18 AAC 50.005 Purpose of Chapter; 18 AAC 50.010 Ambient Air Quality Standards [except (7) and (8)]; 18 AAC 50.015 Air Quality Designations, Classifications, and Control Regions; 18 AAC 50.020 Baseline Dates and Maximum Allowable Increases, 18 AAC 50.045 Prohibitions; 18 AAC 50.055 Industrial Processes and Fuel-Burning Equipment [except (d)(2)(B)]; 18 AAC 50.100 Nonroad Engines; 18 AAC 50.200 Information Requests; 18 AAC 50.201 Ambient Air Quality Investigation; 18 AAC 50.205 Certification; 18 AAC 50.215 Ambient Air Quality Analysis Methods [except (a)(3)]; 18 AAC 50.220 Enforceable Test Methods [except (c)(2)]; 18 AAC 50.245 Air Episodes and Advisories; 18 AAC 50.250 Procedures and Criteria for Revising Air Quality Classifications; 18 AAC 50.301 Permit Continuity; 18 AAC 50.302 Construction Permits; 18 AAC 50.306 Prevention of Significant Deterioration (PSD) Permits [except (b)(2) and (b)(3)]; 18 AAC 50.311 Nonattainment Area Major Stationary Source Permits; 18 AAC 50.345 Construction and Operating Permits: Standard Permit Conditions [except (b), (c)(3), and (l)]; 18 AAC 50.508 Minor Permits Requested by the Owner or Operator [except (1) and (2)]; 18 AAC 50.546 Minor Permits: Revisions [except (b)]; 18 AAC 50.560 General Minor Permits; 18 AAC 50.900 Small Business. All provisions in this paragraph are State effective October 1, 2004.

(5) 18 AAC 50.542 Minor Permit: Review and Issuance [except (b)(2), (f)(4), (f)(5), and (g)(1) but only with respect to clean units and pollution control projects]; State effective December 1, 2004.

(6) 18 AAC 50.225 Owner-Requested Limits; 18 AAC 50.230 Preapproved Emission Limits [except (d)]; 18 AAC 50.544 Minor Permits: Content [except (e)]. All provisions in this paragraph are State effective January 29, 2005.

(7) 18 AAC 50.035 Documents, Procedures, and Methods Adopted By Reference [except (b)(4)]; 18 AAC 50.040 Federal Standards Adopted by Reference [except (a), (b), (c), (d), (e), (g), (h)(17), (h)(18), (h)(19), (i)(7), (i)(8), (i)(9), and (j)]; 18 AAC 50.502 Minor Permits for Air Quality Protection [except (g)(1) and (g)(2)]; 18 AAC 50.540 Minor Permit: Application [except (f) and (g)];18 AAC 50.990 Definitions [except (21), and (77)]. All provisions in this paragraph are State effective December 3, 2005.

(B) Remove the following provisions from the current incorporation by reference:

(1) 18 AAC 50.030 State Air Quality Control Plan; State effective September 21, 2001.

(2) 18 AAC 50.035 (b)(4) Documents, Procedures and Methods Adopted by Reference; State Effective January 18, 1997.

(3) 18 AAC 50.090 Ice Fog Limitations; State effective May 26, 1972.

(4) 18 AAC 50.220(c)(2) Enforceable Test Methods; State effective January 18, 1997.

(5) 18 AAC 50.300 Permit to Operate and 18 AAC 50.400 Application Review & Issuance of Permit to Operate. The provisions in this paragraph were State effective July 21, 1991 and April 23, 1994.

(6) 18 AAC 50.520 Emissions and Ambient Monitoring; State effective July 21, 1991.

(7) 18 AAC 50.530 Circumvention; State effective June 7, 1987.

(8) 18 AAC 50.310 Revocation or Suspension of Permit; State effective May 4, 1980.

(9) 18 AAC 50.400 Permit Administration Fees; 18 AAC 50.420 Billing Procedures; and 18 AAC 50.430 Appeal Procedures. The provisions of this paragraph were State effective January 18, 1997.

(10) 18 AAC 50.600 Reclassification Procedures & Criteria; State effective November 1, 1982.

(11) 18 AAC 50.620 State Air Quality Control Plan; State effective January 4, 1995.

(12) 18 AAC 50.900 Definitions; State effective July 21, 1991 and January 4, 1995.

(ii) Additional Material.

(A) The following section of ADEC's air quality regulations: 18 AAC 50.030 State Air Quality Control Plan, State effective October 1, 2004.

§ 52.75 [Reserved]

3. Section 52.75 is removed and reserved.

4. Section 52.96 is revised to read as follows:

§ 52.96 Significant deterioration of air quality.

(a) The State of Alaska Department of Environmental Conservation Air Quality Control Regulations as in effect on December 3, 2005 (specifically 18 AAC 50.010 except (7) and (8); 50.015; 50.020; 50.030(6) and (7); 50.035(a)(4) and (5); 50.040(h) except (17), (18), and (19); 50.215 except (a)(3); 50.250; 50.306 except (b)(2) and (b)(3); 50.345 except (b), (c)(3) and (l); and 50.990 except (21) and (77)) are approved as meeting the requirements of part C for preventing significant deterioration of air quality.

(b) The requirements of sections 160 through 165 of the Clean Air Act are not met for Indian reservations since the plan does not include approvable provisions for preventing the significant deterioration of air quality on Indian reservations and, therefore, the provisions of § 52.21 except paragraph (a)(1) are hereby incorporated and made part of the applicable plan for Indian reservations in the State of Alaska.

[FR Doc. E7-15669 Filed 8-13-07; 8:45 am]

BILLING CODE 6560-50-P